NUCLEAR REGULATORY COMMISSION

[Docket Nos. 50-255 and 72-007; NRC-2024-0128]

In the Matter of Palisades Energy, LLC; Palisades Nuclear Plant; Direct Transfer of Licenses

AGENCY: Nuclear Regulatory Commission.

ACTION: Order; issuance.

SUMMARY: The U.S. Nuclear Regulatory Commission (NRC) is issuing an order approving the direct transfer of operating authority for Renewed Facility Operating License No. DPR-20 for the Palisades Nuclear Plant (PNP) and the general license for the Palisades Independent Spent Fuel Storage Installation (ISFSI) from the current holder, Holtec Decommissioning International, LLC (HDI), to Palisades Energy, LLC (OPCO). Holtec Palisades, LLC, will remain the licensed owner of PNP and the PNP ISFSI. The NRC is also issuing a conforming amendment to the facility operating license for administrative purposes to reflect the license transfer from HDI to OPCO. This license transfer is part of the regulatory approvals necessary to reauthorize power operations at PNP.

DATES: The order was issued on July 24, 2025.

ADDRESSES: Please refer to Docket ID NRC-2024-0128 when contacting the NRC about the availability of information regarding this document. You may obtain publicly available information related to this document using any of the following methods:

• Federal Rulemaking Website: Go to https://www.regulations.gov and search for Docket ID NRC-2024-0128. Address questions about Docket IDs in Regulations.gov to Bridget Curran; telephone: 301-415-1003; email: Bridget.Curran@nrc.gov. For technical questions, contact the individuals listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The exemption request to remove the prohibition against operations and emplacement of fuel in the reactor vessel is available in ADAMS under Accession No. ML23271A140.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Justin C. Poole, Office of Nuclear Reactor Regulation, U.S. Nuclear Regulatory Commission, Washington, DC 20555-0001; telephone: 301-415-2048; email: Justin.Poole@nrc.gov.

SUPPLEMENTARY INFORMATION: The text of the order is attached.

Dated: August 18, 2025.
For the Nuclear Regulatory Commission.
Ilka Berrios,
Acting Chief, Plant Licensing Branch III, Division of Operating Reactor Licensing, Office of Nuclear Reactor Regulation.

Attachment—Order Approving the Transfer of License and Conforming Amendment

UNITED STATES OF AMERICA

NUCLEAR REGULATORY COMMISSION

In the Matter of Holtec Decommissioning International, LLC, Holtec Palisades, LLC, and Palisades Energy, LLC; Palisades Nuclear Plant and Independent Spent Fuel Storage Installation, Docket Nos. 50-255 and 72-007; License No. DPR-20.

Order Approving Direct Transfer of Licenses and Conforming Amendment

I.

Holtec Decommissioning International, LLC (HDI) and Holtec Palisades, LLC, are the holders of Renewed Facility Operating License No. DPR-20 and the general license for the Independent Spent Fuel Storage Installation (ISFSI). Palisades Nuclear Plant is located in Covert, Michigan, in Van Buren County, on the eastern shore of Lake Michigan.

II.

By application dated December 6, 2023 (Agencywide Documents Access and Management System Accession No. ML23340A161), as supplemented by letters dated May 23, November 19 (two supplements), December 13, December 19, 2024, and July 16, 2025 (ML24144A106, ML24324A207, ML24324A200, ML24348A160, ML24354A183, and ML25197A526), HDI, on behalf of itself, Holtec Palisades, LLC (Holtec Palisades), and Palisades Energy, LLC (OPCO) (collectively, the Applicants), requested that the U.S. Nuclear Regulatory Commission (NRC, the Commission) consent to the direct transfer of operating authority under Renewed Facility Operating License (RFOL) No. DPR-20 for the Palisades Nuclear Plant (Palisades, PNP) and the general license for the Palisades ISFSI, from HDI to OPCO. The Applicants also requested that the NRC approve a conforming administrative amendment to the facility license to reflect the proposed direct transfer of the license from HDI to OPCO. The Applicants submitted these requests to the NRC for approval under Section 184, “Inalienability of Licenses,” of the Atomic Energy Act of 1954, as amended (AEA); 10 CFR 50.80, “Transfer of licenses”; 10 CFR 72.50, “Transfer of license”; and 10 CFR 50.90, “Application for Amendment of license, construction permit, or early site permit.”

Upon NRC approval of the license transfer application and the consummation of the proposed transfer transaction, OPCO would become the licensed operator of Palisades under RFOL No. DPR-20 and the general license for the Palisades ISFSI. Holtec Palisades would remain the licensed owner, the holder of the PNP decommissioning trust fund (DTF) established under 10 CFR 50.75, “Reporting and recordkeeping for decommissioning planning,” and the party to the Standard Contract for Disposal of Spent Nuclear Fuel with the U.S. Department of Energy.

This license transfer is part of the regulatory approvals necessary to reauthorize power operations at PNP. The NRC's approval of this license transfer is not sufficient to authorize operation of the reactor, or emplacement or retention of fuel into the reactor vessel. Concurrently with the approval of this license transfer application, the NRC staff is issuing its approval of an exemption request and four license amendment requests to reauthorize power operations at Palisades. OPCO would not be authorized to operate Palisades until the effective dates of those actions.

On August 7, 2024, the NRC published in the Federal Register (89 FR 64493) a notice of consideration of approval of the license transfer application and conforming amendment to the license to reflect the proposed transfer. This notice provided an opportunity to comment, request a hearing, and petition for leave to intervene on the application. In response, on August 27, 2024 (ML24240A210), a hearing request was filed by Beyond Nuclear, Michigan Safe Energy Future, and Don't Waste Michigan. On April 29, 2025 (ML25119A109), the Commission issued an order (CLI-25-3) denying the hearing request.

In accordance with 10 CFR 50.80, no license for a production or utilization facility, or any right thereunder, shall be transferred, either voluntarily or involuntarily, directly or indirectly, through transfer of control of the license to any person, unless the Commission gives its consent in writing. Upon review of the information in the license transfer application, as supplemented, and other information before the Commission, the NRC staff has determined that Holtec Palisades and OPCO are qualified to hold the licenses to the extent proposed in the application, as supplemented, and that the transfers of the licenses are otherwise consistent with the applicable provisions of law, regulations, and orders issued by the NRC, pursuant thereto.

Upon review of the application, as supplemented, for a conforming administrative amendment to the license to reflect the direct transfer, the NRC staff determined the following:

(1) The application for the proposed license amendment complies with the standards and requirements of the AEA and the Commission's rules and regulations set forth in 10 CFR Chapter I;

(2) The facilities will operate in conformity with the application, the provisions of the AEA and the rules and regulations of the Commission;

(3) There is reasonable assurance that the activities authorized by the proposed license amendment can be conducted without endangering the health and safety of the public and that such activities will be conducted in compliance with the Commission's regulations;

(4) The issuance of the proposed license amendment will not be inimical to the common defense and security or to the health and safety of the public; and

(5) The issuance of the proposed amendment will be in accordance with 10 CFR part 51 of the Commission's regulations and all applicable requirements have been satisfied.

The findings set forth above are supported by an NRC safety evaluation dated July 24, 2025, which is available at ADAMS Accession No. ML25167A268.

III.

(1) Accordingly, pursuant to Sections 161b, 161i, 161o, and 184 of the AEA, 42 U.S.C. 2201(b), 2201(i), 2201(o), and 2234; and 10 CFR 50.80, 10 CFR 72.50, and 10 CFR 50.90, It Is Hereby Ordered that the application regarding the proposed direct license transfer is approved.

It Is Further Ordered that consistent with 10 CFR 2.1315(b), the license amendment that makes a change, as indicated in Enclosure 2 to the cover letter forwarding this Order, to reflect the subject direct transfer, is approved. The amendment shall be issued and made effective immediately.

This Order is effective upon issuance.

For further details with respect to this Order, see the initial application dated December 6, 2023, as supplemented by letters dated May 23, November 19 (two supplements), December 13, and December 19, 2024; and July 16, 2025, and the associated NRC staff safety evaluation dated July 24, 2025, which are available for public inspection electronically through ADAMS in the NRC Library at https://www.nrc.gov/reading-rm/adams.html. Persons who do not have access to ADAMS or who encounter problems in accessing the documents located in ADAMS, should contact the NRC PDR reference staff by telephone at 1-800-397-4209, or 301-415-4737, or by email to pdr.resource@nrc.gov.

Dated at Rockville, Maryland this 24th day of July 2025.

For the Nuclear Regulatory Commission.

/RA/

Gregory Bowman, Acting Director,

Office of Nuclear Reactor Regulation.

[FR Doc. 2025-15921 Filed 8-19-25; 8:45 am]

BILLING CODE 7590-01-P